DEPARTMENT OF ENERGY

Federal Energy Regulatory Commission

Combined Notice of Filings #1

Take notice that the Commission received the following electric corporate filings:

Docket Numbers: EC18-9-000.

Applicants: Thunder Ranch Wind Project, LLC.

Description: Application for Authorization Under Section 203 of the Federal Power Act, Request for Expedited Consideration and Confidential Treatment of Thunder Ranch Wind Project, LLC.

Filed Date: 10/26/17.

Accession Number: 20171026-5331.

Comments Due: 5 p.m. ET 11/16/17.

Docket Numbers: EC18-10-000.

Applicants: MATEP LLC.

Description: Application for Authorization Under Section 203 of the Federal Power Act and Requests for Waiver of Filing Requirements and for Privileged and Confidential Treatment of MATEP LLC.

Filed Date: 10/26/17.

Accession Number: 20171026-5338.

Comments Due: 5 p.m. ET 11/16/17.

Take notice that the Commission received the following electric rate filings:

Docket Numbers: ER17-2162-001; ER17-2163-001.

Applicants: SunE Beacon Site 2 LLC, SunE Beacon Site 5 LLC.

Description: Notice of Non-Material Change in Status of SunE Beacon Site 2 LLC, et al.

Filed Date: 10/26/17.

Accession Number: 20171026-5318.

Comments Due: 5 p.m. ET 11/16/17.

Docket Numbers: ER18-169-000.

Applicants: Southern California Edison Company.

Description: § 205(d) Rate Filing: SCE Transmission Owner Tariff Formula Rate Filing (TO2018) to be effective 1/1/2018.

Filed Date: 10/27/17.

Accession Number: 20171027-5004.

Comments Due: 5 p.m. ET 11/17/17.

Docket Numbers: ER18-170-000.

Applicants: Midcontinent Independent System Operator, Inc.

Description: Limited Waiver Request of Midcontinent Independent System Operator, Inc.

Filed Date: 10/26/17.

Accession Number: 20171026-5310.

Comments Due: 5 p.m. ET 11/16/17.

Docket Numbers: ER18-171-000.

Applicants: Southwest Power Pool, Inc.

Description: § 205(d) Rate Filing: 2236R9 Golden Spread Electric Cooperative, Inc. NITSA NOA to be effective 10/1/2017.

Filed Date: 10/27/17.

Accession Number: 20171027-5042.

Comments Due: 5 p.m. ET 11/17/17.

Docket Numbers: ER18-172-000.

Applicants: NorthWestern Corporation.

Description: § 205(d) Rate Filing: RS 39-SD—Concurrence to Big Stone Plant Transmission Facilities Agreement to be effective 9/29/2010.

Filed Date: 10/27/17.

Accession Number: 20171027-5050.

Comments Due: 5 p.m. ET 11/17/17.

Docket Numbers: ER18-173-000.

Applicants: New York Independent System Operator, Inc.

Description: § 205(d) Rate Filing: NYISO 205 re: Accepted Revision to correct data entry in Contract 218 OATT Att L to be effective 12/27/2017.

Filed Date: 10/27/17.

Accession Number: 20171027-5063.

Comments Due: 5 p.m. ET 11/17/17.

Docket Numbers: ER18-174-000.

Applicants: NorthWestern Corporation.

Description: § 205(d) Rate Filing: RS 40-SD—Concurrence to Coyote 1 Station Transmission Facilities Agreement to be effective 9/29/2010.

Filed Date: 10/27/17.

Accession Number: 20171027-5069.

Comments Due: 5 p.m. ET 11/17/17.

Docket Numbers: ER18-175-000.

Applicants: PJM Interconnection, L.L.C.

Description: § 205(d) Rate Filing: Filing to Correct Parameters in Tariff section 204.3A filed in ER16-2518 to be effective 12/26/2017.

Filed Date: 10/27/17.

Accession Number: 20171027-5072.

Comments Due: 5 p.m. ET 11/17/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 27, 2017.
Nathaniel J. Davis, Sr.,
Deputy Secretary.

[FR Doc. 2017-23849 Filed 11-1-17; 8:45 am]

BILLING CODE 6717-01-P